POSTAL SERVICE

Board of Governors; Sunshine Act Meeting

TIMES AND DATES: 10:30 a.m., Tuesday, May 2, 2006; 8:30 a.m. and 10 a.m., Wednesday, May 3, 2006.

PLACE: Washington, DC, at U.S. Postal Service Headquarters, 475 L'Enfant Plaza, SW., in the Benjamin Franklin Room.

STATUS: May 2, 10:30 a.m. (Closed); May 3, 8:30 a.m. (Open); May 3, 10 a.m. (Closed).

MATTERS TO BE CONSIDERED:

Tuesday, May 2, at 10:30 a.m. (Closed)

1. Strategic Planning.

2. Financial Update.

3. Rate Case Planning.

4. Labor Negotiations Planning.

5. Personnel Matters and Compensation Issues.

Wednesday, May 3, at 8:30 a.m. (Open)

1. Minutes of the Previous Meetings, February 7-8; and March 22-23, 2006.

2. Remarks of the Postmaster General and CEO Jack Potter.

3. Committee Reports and Committee Charters.

4. Capital Investments.

a. Automated Flat Sorting Machine 100—Auto Induction Phase 2.

b. Additional Delivery Barcode Sorter Equipment.

c. Oklahoma City, Oklahoma, Regional Distribution Center.

5. Quarterly Report on Service Performance.

6. Quarterly Report on Financial Performance.

7. 2006 Privacy Trust Study of the U.S. Government.

8. Tentative Agenda for the June 6-7, 2006 meeting in Indianapolis, Indiana.

Wednesday, May 3 at 10 a.m. (Closed)—(If Needed)

1. Continuation of Tuesday's closed session agenda.

FOR FURTHER INFORMATION CONTACT: Wendy A. Hocking, Secretary of the Board, U.S. Postal Service, 475 L'Enfant Plaza, SW., Washington, DC 20260-1000. Telephone (202) 268-4800.

Wendy A. Hocking,
Secretary.

[FR Doc. 06-3950 Filed 4-21-06; 3:32 pm]

BILLING CODE 7710-12-M